DEPARTMENT OF JUSTICE

Antitrust Division

Notice Pursuant to the National Cooperative Research and Production Act of 1993—National Center for Manufacturing Sciences, Inc.

Notice is hereby given that, on May 15, 2002, pursuant to section 6(a) of the National Cooperative Research and Production Act of 1993, 15 U.S.C. 4301 et seq. (“the Act”), the National Center for Manufacturing Sciences, Inc. (“NCMS”), the National Center for Manufacturing Sciences, Inc. (“NCMS”), has filed written notification simultaneously with the Attorney General and the Federal Trade Commission disclosing changes in its membership. The notifications were filed for the purpose of extending the Act's provisions limiting the recovery of antitrust plaintiffs to actual damages under specified circumstances. Specifically, Aereous, L.L.C., Ann Arbor, MI; EER Systems, Inc., Chantilly, VA; and University of Tennessee, Knoxville, TN have been added as parties to the venture. Also, Erie Press Systems (an EFCO Company), Erie, PA; Auto-trol Technology Corporation, McLean, VA; Forging Industry Association, Cleveland, OH; Michigan BIDCO, Ann Arbor, MI; Michigan State University, East Lansing, MI; S.E. Huffman Corporation, Clover, SC; and VE Technologies, Blacksburg, VA have resigned as members.

No other changes have been made in either the membership or planned activity of the group research project. Membership in this group research project remains open, and NCMS intends to file additional written notification disclosing all changes in membership.

On February 20, 1987, NCMS filed its original notification pursuant to Section 6(a) of the Act. The Department of Justice published a notice in the Federal Register pursuant to section 6(b) of the Act on March 17, 1987 (52 FR 8375).

The last notification was filed with the Department on December 18, 2001. A notice was published in the Federal Register pursuant to Section 6(b) of the Act on January 23, 2002 (67 FR 3236).

Constance K. Robinson,
Director of Operations, Antitrust Division.

[FR Doc. 02-16922 Filed 7-5-02; 8:45 am]

BILLING CODE 4410-11-M